DEPARTMENT OF THE TREASURY

Internal Revenue Service

26 CFR Part 301

[REG-119632-11]

RIN 1545-BK87

Regulations Pertaining to the Disclosure of Return Information To Carry Out Eligibility Requirements for Health Insurance Affordability Programs; Hearing Cancellation

AGENCY: Internal Revenue Service (IRS), Treasury.

ACTION: Cancellation of notice of public hearing on proposed rulemaking.

SUMMARY: This document cancels a public hearing on proposed regulations relating to the disclosure of return under section 6103(1)(21) of the Internal Revenue Code, as enacted by the Patient Protection and Affordable Care Act and Health Care and Education Reconciliation Act of 2010.

DATES: The public hearing, originally scheduled for August 31, 2012 at 10 a.m. is cancelled.

FOR FURTHER INFORMATION CONTACT: Oluwafunmilayo Taylor of the Publications and Regulations Branch, Legal Processing Division, Associate Chief Counsel (Procedure and Administration) at (202) 622-7180 (not a toll-free number).

SUPPLEMENTARY INFORMATION: A notice of proposed rulemaking and a notice of public hearing that appeared in the Federal Register on Monday, April 30, 2012 (77 FR 25378) announced that a public hearing was scheduled for August 31, 2012, at 10 a.m. in the IRS Auditorium, Internal Revenue Building, 1111 Constitution Avenue NW., Washington, DC. The subject of the public hearing was under the section 6103(1)(21) of the Internal Revenue Code.

The public comment period for these regulations expired on July 30, 2012. The notice of proposed rulemaking and notice of public hearing instructed those interested in testifying at the public hearing to submit a request to speak and an outline of the topics to be addressed. As of Thursday, August 9, 2012, no one has requested to speak. Therefore, the public hearing scheduled for August 31, 2012, is cancelled.

LaNita VanDyke,
Chief, Publications and Regulations Branch, Legal Processing Division, Associate Chief Counsel (Procedure and Administration).

[FR Doc. 2012-19969 Filed 8-14-12; 8:45 am]

BILLING CODE 4830-01-P